ENVIRONMENTAL PROTECTION AGENCY

40 CFR Part 98

[EPA-HQ-OAR-2025-0186; FRL-12720.1-02-OAR]

RIN 2060-AW76

Extending the Reporting Deadline Under the Greenhouse Gas Reporting Rule for 2025

AGENCY: Environmental Protection Agency (EPA).

ACTION: Final rule.

SUMMARY: The U.S. Environmental Protection Agency (EPA) is promulgating this final rule to extend the reporting deadline under the Greenhouse Gas Reporting Rule for reporting year 2025 from March 31, 2026 to October 30, 2026. This final rule changes only the reporting deadline for annual greenhouse gas (GHG) reports for reporting year 2025 in response to comments received on the proposed rescission of the Greenhouse Gas Reporting Program (GHGRP). The EPA anticipates addressing the remainder of the proposed rule in one or more subsequent final actions.

DATES: This rule is effective February 27, 2026.

ADDRESSES: The EPA established a docket for this action under Docket Id. No. EPA-HQ-OAR-2025-0186. All documents in the docket are listed in the www.regulations.gov index. Although listed in the index, some information is not publicly available, e.g., confidential business information (CBI) or other information whose disclosure is restricted by statute. Certain other material, such as copyrighted material, is not placed on the internet and will be publicly available only in hard copy. Publicly available docket materials are available either electronically in www.regulations.gov or in hard copy at the EPA Docket Center, WJC West Building, Room 3334, 1301 Constitution Ave. NW, Washington, DC. This Docket Facility is open from 8:30 a.m. to 4:30 p.m., Monday through Friday, excluding legal holidays. The telephone number for the Public Reading Room is (202) 566-1744 and the telephone number for the Air Docket is (202) 566-1742.

FOR FURTHER INFORMATION CONTACT: Jennifer Bohman, Emissions Data and Assessments Branch, Natural Resources Division, Office of Clean Air Programs, Environmental Protection Agency, 1200 Pennsylvania Ave. NW, Washington, DC 20460; telephone number: (202) 343-9548; email address: GHGReporting@epa.gov.

SUPPLEMENTARY INFORMATION:

Preamble acronyms and abbreviations. Throughout this preamble, the use of “we,” “us,” or “our” is intended to refer to the EPA. We use multiple acronyms and terms in this preamble. While this list may not be exhaustive, to ease the reading of this preamble and for reference purposes, the EPA defines the following terms and acronyms here:

CAA Clean Air Act

CBI confidential business information

CFR Code of Federal Regulations

CO2 carbon dioxide

CRA Congressional Review Act

e-GGRT electronic Greenhouse Gas Reporting Tool

EPA U.S. Environmental Protection Agency

FR Federal Register

GHG greenhouse gas

GHGRP Greenhouse Gas Reporting Program

HCFC hydrochlorofluorocarbon

HFC hydrofluorocarbon

MTCO2e metric tons of CO2 equivalent

NAICS North American Industry Classification System

NTTAA National Technology Transfer and Advancement Act

OAR Office of Air and Radiation

OMB Office of Management and Budget

PRA Paperwork Reduction Act

RFA Regulatory Flexibility Act

U.S. United States

UMRA Unfunded Mandates Reform Act of 1995

Background information. On September 16, 2025, the EPA proposed to permanently remove program obligations for 46 source categories of the GHGRP. Under the proposal, facilities, suppliers, and underground injection sites under these 46 source categories would no longer report to the EPA after reporting year (RY) 2024, meaning reporting would not be required for RY2025 and onward. For the petroleum and natural gas source category (subpart W), the EPA's proposed amendments consisted of two parts. First, the EPA proposed to permanently remove program obligations for facilities in the natural gas distribution segment. Under the proposal, facilities in the natural gas distribution segment of subpart W would no longer report to the EPA after RY2024. Second, for the remaining nine segments of subpart W, the EPA proposed to suspend program reporting requirements until reporting year 2034. Additionally, the EPA proposed to extend the March 31, 2026, reporting deadline for all 47 source categories until June 10, 2026. In this final rule, we are extending the reporting deadline under the Greenhouse Gas Reporting Program for reporting year 2025 and not taking final action on any other aspect of the proposed rule, which will be addressed in one or more subsequent final actions.

Table of Contents

I. General Information

A. Does this action apply to me?

B. Where can I get a copy of this document and other related information?

II. Background

A. What is the statutory authority for this action?

B. What is the Greenhouse Gas Reporting Program?

C. What changes did we propose for the GHGRP in our September 16, 2025, proposed rulemaking?

III. What is included in this final rule?

A. What are the final rule amendments?

B. Summary of Significant Comments and Response

IV. Statutory and Executive Order Reviews

A. Executive Order 12866: Regulatory Planning and Review and Executive Order 13563: Improving Regulation and Regulatory Review

B. Executive Order 14192: Unleashing Prosperity Through Deregulation

C. Paperwork Reduction Act (PRA)

D. Regulatory Flexibility Act (RFA)

E. Unfunded Mandates Reform Act (UMRA)

F. Executive Order 13132: Federalism

G. Executive Order 13175: Consultation and Coordination With Indian Tribal Governments

H. Executive Order 13045: Protection of Children From Environmental Health Risks and Safety Risks

I. Executive Order 13211: Actions Concerning Regulations That Significantly Affect Energy Supply, Distribution, or Use

J. National Technology Transfer and Advancement Act (NTTAA)

K. Congressional Review Act (CRA)

L. Determination Under CAA Section 307(d)

M. Judicial Review

I. General Information

A. Does this action apply to me?

Regulated entities. This final regulation affects entities that submit annual GHG reports pursuant to the GHGRP (40 CFR part 98). Entities affected by this action are owners or operators of facilities that are direct emitters or suppliers of GHGs or that sequester carbon dioxide (CO2) gas underground. Regulated categories and entities include, but are not limited to, those listed in Table 1 of this preamble:

Table 1—Examples of Affected Entities by Category
Category | North American Industry Classification System (NAICS) | Examples of facilities that may be subject to 40 CFR part 98
General Stationary Fuel Combustion Sources |  | Facilities operating boilers, process heaters, incinerators, turbines, and internal combustion engines.
| 211 | Extractors of crude petroleum and natural gas.
| 321 | Manufacturers of lumber and wood products.
| 322 | Pulp and paper mills.
| 325 | Chemical manufacturers.
| 324 | Petroleum refineries, and manufacturers of coal products.
| 316, 326, 339 | Manufacturers of rubber and miscellaneous plastic products.
| 331 | Steel works, blast furnaces.
| 332 | Electroplating, plating, polishing, anodizing, and coloring.
| 336 | Manufacturers of motor vehicle parts and accessories.
| 221 | Electric, gas, and sanitary services.
| 622 | Health services.
| 611 | Educational services.
Electric Power Generation | 2211 | Generation facilities that produce electric energy.
Adipic Acid Production | 325199 | All other basic organic chemical manufacturing: Adipic acid manufacturing.
Aluminum Production | 331313 | Primary aluminum production facilities.
Ammonia Manufacturing | 325311 | Anhydrous ammonia manufacturing facilities.
Calcium Carbide Production | 325180 | Other basic inorganic chemical manufacturing: calcium carbide manufacturing.
Carbon Dioxide Enhanced Oil Recovery Projects | 211120 | Oil and gas extraction projects using carbon dioxide enhanced oil recovery.
Caprolactam, Glyoxal, and Glyoxylic Acid Production | 325199 | All other basic organic chemical manufacturing.
Cement Production | 327310 | Cement manufacturing.
Ceramics Manufacturing | 327110 | Pottery, ceramics, and plumbing fixture manufacturing.
| 327120 | Clay building material and refractories manufacturing.
Coke Calcining | 299901 | Coke; coke, petroleum; coke, calcined petroleum.
Electronics Manufacturing | 334111 | Microcomputers manufacturing facilities.
| 334413 | Semiconductor, photovoltaic (PV) (solid-state) device manufacturing facilities.
| 334419 | Liquid crystal display (LCD) unit screens manufacturing facilities; Microelectro mechanical (MEMS) manufacturing facilities.
Electrical Equipment Manufacture or Refurbishment | 33531 | Power transmission and distribution switchgear and specialty transformers manufacturing facilities.
Electricity generation units that report through 40 CFR part 75 | 221112 | Electric power generation, fossil fuel (e.g., coal, oil, gas).
Electrical Equipment Use | 221121 | Electric bulk power transmission and control facilities.
Electrical transmission and distribution equipment manufacture or refurbishment | 33361 | Engine, Turbine, and Power Transmission Equipment Manufacturing.
Ferroalloy Production | 331110 | Ferroalloys manufacturing.
Fluorinated Greenhouse Gas Production | 325120 | Industrial gases manufacturing facilities.
Geologic Sequestration | NA | CO2 geologic sequestration sites.
Glass Production | 327211 | Flat glass manufacturing facilities.
| 327213 | Glass container manufacturing facilities.
| 327212 | Other pressed and blown glass and glassware manufacturing facilities.
Hydrochlorofluorocarbon (HCFC)-22 Production | 325120 | Industrial gas manufacturing: HCFC gases manufacturing.
Hydrofluorocarbon (HFC)-23 destruction processes that are not collocated with a HCFC-22 production facility and that destroy more than 2.14 metric tons of HFC-23 per year | 325120 | Industrial gas manufacturing: HFC gases manufacturing.
Hydrogen Production | 325120 | Hydrogen manufacturing facilities.
Industrial Waste Landfill | 562212 | Solid waste landfill.
Industrial Wastewater Treatment | 221310 | Water treatment plants.
Injection of Carbon Dioxide | 211 | Oil and gas extraction.
Iron and Steel Production | 333110 | Integrated iron and steel mills, steel companies, sinter plants, blast furnaces, basic oxygen process furnace (BOPF) shops.
Lead Production | 331 | Primary metal manufacturing.
Lime Manufacturing | 327410 | Lime production.
Magnesium Production | 331410 | Nonferrous metal (except aluminum) smelting and refining: Magnesium refining, primary.
Nitric Acid Production | 325311 | Nitrogenous fertilizer manufacturing: Nitric acid manufacturing.
Petroleum and Natural Gas Systems | 486210 | Pipeline transportation of natural gas.
| 221210 | Natural gas distribution facilities.
| 211120 | Crude petroleum extraction.
| 211130 | Natural gas extraction.
Petrochemical Production | 324110 | Petrochemicals made in petroleum refineries.
Petroleum Refineries | 324110 | Petroleum refineries.
Phosphoric Acid Production | 325312 | Phosphatic fertilizer manufacturing.
Pulp and Paper Manufacturing | 322110 | Pulp mills.
| 322120 | Paper mills.
| 322130 | Paperboard mills.
Miscellaneous Uses of Carbonate | Facilities included elsewhere.
Municipal Solid Waste Landfills | 562212 | Solid waste landfills.
| 221320 | Sewage treatment facilities.
Silicon Carbide Production | 327910 | Silicon carbide abrasives manufacturing.
Soda Ash Production | 325180 | Other basic inorganic chemical manufacturing: Soda ash manufacturing.
Suppliers of Carbon Dioxide | 325120 | Industrial gas manufacturing facilities.
Suppliers of Industrial Greenhouse Gases | 325120 | Industrial greenhouse gas manufacturing facilities.
Suppliers of Coal-based Liquid Fuels | 211130 | Coal liquefaction at mine sites.
Suppliers of Natural Gas and Natural Gas Liquids | 221210 | Natural gas distribution facilities.
| 211112 | Natural gas liquid extraction facilities.
Suppliers of Petroleum Products | 324110 | Petroleum refineries.
Titanium Dioxide Production | 325180 | Other basic inorganic chemical manufacturing: Titanium dioxide manufacturing.
Underground Coal Mines | 212115 | Underground coal mining.
Zinc Production | 331410 | Nonferrous metal (except aluminum) smelting and refining: Zinc refining, primary.
Importers and Exporters of Pre-charged Equipment and Closed-Cell Foams | 423730 | Air-conditioning equipment (except room units) merchant wholesalers.
| 333415 | Air-conditioning equipment (except motor vehicle) manufacturing.
| 423620 | Air-conditioners, room, merchant wholesalers.
| 449210 | Electronics and Appliance retailers.
| 326150 | Polyurethane foam products manufacturing.
| 335313 | Circuit breakers, power, manufacturing.
| 423610 | Circuit breakers and related equipment merchant wholesalers.

Table 1 of this preamble is not intended to be exhaustive but rather provides a guide for readers regarding entities likely affected by this action. This table lists the types of entities that the EPA is now aware could potentially be affected by this action. Other types of entities than those listed in the table could also be subject to this action. Many entities that are affected by 40 CFR part 98 have GHG emissions from multiple source categories listed in Table 1 of this preamble. If you have questions regarding the applicability of this action to a particular facility, consult the FOR FURTHER INFORMATION CONTACT section.

B. Where can I get a copy of this document and other related information?

In addition to being available in the docket, an electronic copy of this final rule will also be available through the internet. In accordance with 5 U.S. Code (U.S.C.) 553(b)(4), a brief summary of this rule may be found at https://www.regulations.gov, Docket ID No. EPA-HQ-OAR-2025-0186. Following the Administrator's signature, a copy of this final rule will be posted on the EPA's GHGRP website at www.epa.gov/ghgreporting. Following publication in the Federal Register, the EPA will post the Federal Register version at this same website.

II. Background

A. What is the statutory authority for this action?

The GHGRP was promulgated pursuant to Clean Air Act (CAA) section 114 and under CAA section 136 for certain segments of the petroleum and natural gas source category (subpart W).¹ Under this action, the EPA is amending the RY2025 regulatory reporting deadline of the GHGRP.

¹ 42 U.S.C. 7414, 7436.

This final rule is effective immediately upon publication. Section 553(d)(1) of the Administrative Procedure Act, 5 U.S.C. 553(d)(1), provides that final rules shall not become effective until 30 days after publication in the Federal Register “except . . . a substantive rule which grants or recognizes an exemption or relieves a restriction.” The purpose of this provision is to “give affected parties a reasonable time to adjust their behavior before the final rule takes effect.” Omnipoint Corp. v. Fed. Commc'n Comm'n, 78 F.3d 620, 630 (D.C. Cir. 1996); see also United States v. Gavrilovic, 551 F.2d 1099, 1104 (8th Cir. 1977). However, when the agency grants or recognizes an exemption or relieves a restriction, affected parties do not need a reasonable time to adjust because the effect is not adverse. Absent this action, regulated entities would have insufficient time to prepare and submit annual reports in the e-GGRT system, and this action relieves that restriction. Therefore, the normal 30-day minimum period between this action's dates of publication and effectiveness is not required. Accordingly, EPA is making this rule effective immediately upon publication.

The Administrator has determined that this action is subject to the provisions of CAA section 307(d) (see section IV.M. of this preamble for further discussion). Section 307(d) of this CAA contains a set of procedures relating to the issuance and review of certain CAA rules.²

² 42 U.S.C. 7607.

B. What is the Greenhouse Gas Reporting Program?

The Greenhouse Gas Reporting Program (codified at 40 CFR part 98) applies to certain industrial facilities that emit GHGs (primarily large facilities emitting at least 25,000 metric tons of carbon dioxide equivalents (MTCO2e)), upstream suppliers of fossil fuels and industrial GHGs (such as CO2 and hydrofluorocarbons (HFCs)), and industries that capture and sequester CO2. Approximately 8,200 facilities, suppliers, and CO2 injection sites submit data each year. Facilities calculate emissions using methodologies that are specified under the regulations and report data to the EPA using the electronic Greenhouse Gas Reporting Tool (e-GGRT). Annual reports covering emissions from the prior calendar year are due to the EPA by March 31st of each year. Once data are submitted, the EPA conducts a multi-step verification process to ensure reported data are accurate, complete, and consistent. If the EPA identifies potential errors, it will notify the reporter, who can resolve the issue either by providing an acceptable response describing why the flagged issue is not an error or by correcting the flagged issue and resubmitting their annual GHG report. The reported data are made available to the public typically seven to eight months after the reporting deadline of each year through several available tools, resources, and factsheets accessible via the internet.

C. What changes did we propose for the GHGRP in our September 16, 2025, proposed rulemaking?

On September 16, 2025, the EPA issued a proposed rule to rescind GHGRP obligations promulgated under CAA section 114 and revise GHGRP reporting obligations in other respects, including aspects of subpart W promulgated or amended under CAA section 136, effective for RY2025 and onward (“GHGRP Reconsideration Proposal”).³ As relevant here, we further proposed to extend the deadline for submitting the calendar year 2025 report (i.e., “the RY2025 reporting deadline”) from March 31, 2026, to June 10, 2026. In support of this proposal, we asserted that such an extension would be necessary to allow time for the EPA to issue a final rule prior to the RY2025 reporting deadline and to allow regulated entities to adjust compliance efforts accordingly.

³ 90 FR 44591 (September 16, 2025).

The EPA subsequently received over 50,000 comments on the GHGRP Reconsideration Proposal by the comment deadline of November 3, 2025, including public input received in connection with a public hearing held on October 1, 2025. Relatively few commenters opined specifically on the deadline extension aspect of the proposal, and the comments received on this issue were universally supportive of an extension. After considering these comments and for the reasons set out below, the EPA has decided to finalize this aspect of the proposal separately by extending the reporting deadline for calendar year 2025 to October 30, 2026. The Agency intends to separately consider all other aspects of the GHGRP Reconsideration Proposal in one or more subsequent final actions.

III. What is included in this final rule?

A. What are the final rule amendments?

In this final action, the EPA is amending subpart A (General Provisions) at 40 CFR 98.3(b) to add a new paragraph that will extend the reporting deadline for calendar year 2025 (RY2025) to October 30, 2026. This extension applies only to the RY2025 reporting deadline. The extension will allow the EPA time to consider comments on the GHGRP Reconsideration Proposal and to take any final actions before the revised RY2025 reporting deadline of October 30, 2026. In addition, this extension ensures that entities subject to the GHGRP could benefit from any burden reduction revisions that the EPA may make for the 2025 reporting year in any separate final actions following the GHGRP Reconsideration Proposal and/or have adequate time to prepare and submit RY2025 reports.

B. Summary of Significant Comments and Response

In September 2025, the EPA proposed changes to the GHGRP and anticipated finalizing substantive GHGRP changes by March 2026. This timeline would have provided an appropriate time period for sources and EPA to implement any necessary adjustments in advance of the proposed RY2025 reporting deadline in June 2026. Many industry commenters supported this approach, including a commenter who indicated that additional time might be more appropriate if the overall schedule were modified. At this time, EPA anticipates finalizing the rule by July 2026, which would provide a similar time period from July 2026 through October 2026 for sources and EPA to adjust to any changes in the final rule. The following provides additional information on the comments we received and our responses to those comments.

Although the EPA received a substantial number of comments on a wide range of issues in the GHGRP Reconsideration Proposal, we received only a few comments specific to the RY2025 reporting deadline. Several commenters supported the proposal to extend the reporting deadline for calendar year 2025 to June 10, 2026. Some commenters requested that we expedite issuance of a final rule extending the deadline sufficiently in advance of the current deadline to provide certainty to the regulated community. Other commenters requested that we allow affected entities sufficient time to work in the e-GGRT system to prepare submissions and to avoid unnecessary costs and effort. Finally, at least one commenter argued that we may need to extend the reporting period past June 10, 2026, to allow even more time to prepare a final rule on other aspects of the GHGRP Reconsideration Proposal.

The EPA generally agrees with commenters that supported extending the reporting deadline for RY2025. The EPA further agrees with commenters that it should expedite action on the RY2025 reporting deadline. In response to comments received on this issue, the EPA is finalizing this discrete, limited aspect of the GHGRP Reconsideration Proposal by extending the reporting deadline for RY2025 to provide certainty to the regulated community. We note that extending the reporting deadline will also allow the Agency time to prepare and release the e-GGRT system if needed in advance of the revised RY2025 reporting deadline so that facilities have additional time to work in the e-GGRT system to prepare submissions, as requested by some commenters. Finally, the EPA agrees with the commenter's argument that we should extend the RY2025 reporting deadline beyond June 10, 2026. Although we proposed to extend the reporting deadline to June 10, 2026, and many commenters agreed with this date, we recognize that a longer extension to October 30, 2026, would better achieve the goal of providing greater certainty to the obligated stakeholders and provide appropriate compliance time without prejudicing the outcome of the remainder of the GHGRP Reconsideration Proposal.

The EPA anticipates that this longer extension will satisfy many of the concerns raised by commenters, such as providing sufficient notice of the extended reporting deadline and allowing time to prepare for the amended deadline. As previously stated, we note that extending the reporting deadline will also allow the Agency time if needed to prepare and release the e-GGRT system in advance of the revised RY2025 reporting deadline. Additionally, in a typical reporting year the Agency allows two months for reporters to compile and submit reports, so additional time following the GHGRP final decision(s) would be appropriate. Should we later take final action on the GHGRP Reconsideration Proposal by retaining all or many existing reporting obligations, this revised deadline would allow regulated entities to comply with sufficient time to react to that final decision and ensure that the data remains available for review. Conversely, should we later take final action on the GHGRP Reconsideration Proposal by finalizing all or most of the proposed rescissions and revisions, this revised deadline would allow regulated entities sufficient time to adjust their compliance efforts and avoid wasted time and effort.

IV. Statutory and Executive Order Reviews

Additional information about these statutes and Executive Orders can be found at www.epa.gov/laws-regulations/laws-and-executive-orders.

A. Executive Order 12866: Regulatory Planning and Review and Executive Order 13563: Improving Regulation and Regulatory Review

This action is not a significant regulatory action and was therefore not submitted to the Office of Management and Budget (OMB) for review.

B. Executive Order 14192: Unleashing Prosperity Through Deregulation

This action is considered an Executive Order 14192 deregulatory action. While we have not quantified any reduction in regulatory costs related to these changes, providing more time for compliance does provide entities with greater flexibilities related to how they use their workforce which could result in some savings.

C. Paperwork Reduction Act (PRA)

This action does not impose any new information collection burden under the PRA. OMB has previously approved the information collection requirements contained in the existing regulation and has assigned OMB control number 2060-0629, OMB control number 2060-0748, and OMB control number 2060-0751. This action extends the deadline for submitting annual GHG reports for reporting year 2025 data from March 31, 2026, to October 30, 2026.

D. Regulatory Flexibility Act (RFA)

I certify that this final action will not have a significant economic impact on a substantial number of small entities under the RFA. In making this determination, the EPA concludes that the impact of concern for this rule is any significant adverse economic impact on small entities and that the Agency is certifying that this rule will not have a significant economic impact on a substantial number of small entities because the rule has no net burden on the small entities subject to the rule. In this final rule, we are confirming the EPA's decision to extend a reporting compliance date, after considering and responding to comments received on the 2025 proposed rule. This action does not change any other regulatory requirements. We have therefore concluded that this action will have no net regulatory burden for all directly regulated small entities.

E. Unfunded Mandates Reform Act (UMRA)

This action does not contain an unfunded mandate as described in UMRA, 2 U.S.C. 1531-1538, and does not significantly or uniquely affect small governments. This action imposes no enforceable duty on any State, local, or Tribal governments or the private sector.

F. Executive Order 13132: Federalism

This action does not have federalism implications. It will not have substantial direct effects on the States, on the relationship between the national government and the states, or on the distribution of power and responsibilities among the various levels of government.

G. Executive Order 13175: Consultation and Coordination With Indian Tribal Governments

This action does not have Tribal implications as specified in Executive Order 13175. The rule does not result in any changes to the requirements of 40 CFR part 98 other than extending the reporting deadline for submitting annual GHG reports for reporting year 2025 data until October 30, 2026. Thus, Executive Order 13175 does not apply to this action.

H. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. Therefore this action is not subject to Executive Order 13045 because it does not concern an environmental health risk or safety risk. Since this action does not concern human health, EPA's Policy on Children's Health also does not apply.

I. Executive Order 13211: Actions Concerning Regulations That Significantly Affect Energy Supply, Distribution, or Use

This action is not subject to Executive Order 13211 because it is not a significant regulatory action under Executive Order 12866.

J. National Technology Transfer and Advancement Act (NTTAA)

This rule does not involve technical standards.

K. Congressional Review Act (CRA)

This action is subject to the CRA, and the EPA will submit a rule report to each House of the Congress and to the Comptroller General of the United States. This action is not a “major rule” as defined by 5 U.S.C. 804(2).

L. Determination Under CAA Section 307(d)

Pursuant to CAA section 307(d)(1)(V), the Administrator has determined that this action is subject to the provisions of CAA section 307(d). Section 307(d)(1)(V) of the CAA provides that the provisions of CAA section 307(d) apply to “such other actions as the Administrator may determine.”

M. Judicial Review

Under CAA section 307(b)(1), judicial review of this final action is available only by filing a petition for review in the United States Court of Appeals for the District of Columbia Circuit by April 28, 2026. Under CAA section 307(b)(2), the requirements established by this final rule may not be challenged separately in any civil or criminal proceedings brought by the EPA to enforce the requirements.

CAA section 307(d)(7)(B) further provides that “[o]nly an objection to a rule or procedure which was raised with reasonable specificity during the period for public comment (including any public hearing) may be raised during judicial review.” This section also provides a mechanism for the EPA to convene a proceeding for reconsideration “[i]f the person raising an objection can demonstrate to the EPA that it was impracticable to raise such objection within [the period for public comment] or if the grounds for such objection arose after the period for public comment, (but within the time specified for judicial review) and if such objection is of central relevance to the outcome of the rule.” Any person seeking to make such a demonstration to us should submit a Petition for Reconsideration to the Office of the Administrator, U.S. Environmental Protection Agency, Room 3000, WJC South Building, 1200 Pennsylvania Ave. NW, Washington, DC 20460, with a copy to both the person(s) listed in the preceding FOR FURTHER INFORMATION CONTACT section, and the Associate General Counsel for the Air and Radiation Law Office, Office of General Counsel (Mail Code 2344A), U.S. Environmental Protection Agency, 1200 Pennsylvania Ave. NW, Washington, DC 20460.

List of Subjects in 40 CFR Part 98

Environmental protection, Administrative practice and procedure, Greenhouse gases, Reporting and recordkeeping requirements.

Lee Zeldin,
Administrator.

For the reasons set out in the preamble, the Environmental Protection Agency amends 40 CFR part 98 as follows:

PART 98—MANDATORY GREENHOUSE GAS REPORTING

1. The authority citation for part 98 continues to read as follows:

Authority: 42 U.S.C. 7401-7671q.

Subpart A—General Provision

2. Amend § 98.3 by revising paragraph (b) to read as follows:

§ 98.3 What are the general monitoring, reporting, recordkeeping and verification requirements of this part?

* * * * *

(b) Schedule. The annual GHG report for reporting year 2010 must be submitted no later than September 30, 2011. The annual report for reporting years 2011 and beyond must be submitted no later than March 31 of each calendar year for GHG emissions in the previous calendar year, except as provided in paragraphs (b)(1), (5), and (6) of this section.

(1) For reporting year 2011, facilities with one or more of the subparts listed in paragraphs (b)(1)(i) through (xi) of this section and suppliers listed in paragraph (b)(1)(xii) of this section are required to submit their annual GHG report no later than September 28, 2012. Facilities and suppliers that are submitting their second annual GHG report in 2012 and that are reporting on one or more subparts listed in paragraphs (b)(1)(i) through (xii) of this section must notify the EPA by March 31, 2012, that they are not required to submit their annual GHG report until September 28, 2012.

(i) Electronics Manufacturing (subpart I).

(ii) Fluorinated Gas Production (subpart L).

(iii) Magnesium Production (subpart T).

(iv) Petroleum and Natural Gas Systems (subpart W).

(v) Use of Electric Transmission and Distribution Equipment (subpart DD).

(vi) Underground Coal Mines (subpart FF).

(vii) Industrial Wastewater Treatment (subpart II).

(viii) Geologic Sequestration of Carbon Dioxide (subpart RR).

(ix) Manufacture of Electric Transmission and Distribution (subpart SS).

(x) Industrial Waste Landfills (subpart TT).

(xi) Injection of Carbon Dioxide (subpart UU).

(xii) Imports and Exports of Equipment Pre-charged with Fluorinated GHGs or Containing Fluorinated GHGs in Closed-cell Foams (subpart QQ).

(2) For a new facility or supplier that begins operation on or after January 1, 2010, and becomes subject to the rule in the year that it becomes operational, report emissions starting the first operating month and ending on December 31 of that year. Each subsequent annual report must cover emissions for the calendar year, beginning on January 1 and ending on December 31.

(3) For any facility or supplier that becomes subject to this rule because of a physical or operational change that is made after January 1, 2010, report emissions for the first calendar year in which the change occurs, beginning with the first month of the change and ending on December 31 of that year. For a facility or supplier that becomes subject to this rule solely because of an increase in hours of operation or level of production, the first month of the change is the month in which the increased hours of operation or level of production, if maintained for the remainder of the year, would cause the facility or supplier to exceed the applicable threshold. Each subsequent annual report must cover emissions for the calendar year, beginning on January 1 and ending on December 31.

(4) Unless otherwise stated, if the final day of any time period falls on a weekend or a Federal holiday, the time period shall be extended to the next business day.

(5) The annual GHG report for reporting year 2024 must be submitted no later than May 30, 2025.

(6) The annual GHG report for reporting year 2025 must be submitted no later than October 30, 2026.

* * * * *

[FR Doc. 2026-03995 Filed 2-26-26; 8:45 am]

BILLING CODE 6560-50-P